DEPARTMENT OF COMMERCE

National Oceanic and Atmospheric Administration

[I.D. 090303A]

North Pacific Fishery Management Council; Public Meetings

AGENCY: National Marine Fisheries Service (NMFS), National Oceanic and Atmospheric Administration (NOAA), Commerce.

ACTION: The North Pacific Fishery Management Council (Council) and its advisory committees will hold public meetings.

SUMMARY: The North Pacific Fishery Management Council (Council) and its advisory committees will hold public meetings in Anchorage.

DATES: The meetings will be held on October 6 through October 14, 2003. See SUPPLEMENTARY INFORMATION for specific dates and times. All meetings are open to the public except executive sessions.

ADDRESSES: The meetings will be held at the Sheraton Hotel, 401 E 6th Avenue, Anchorage, AK.

Council address: North Pacific Fishery Management Council, 605 W. 4th Ave., Suite 306, Anchorage, AK 99501-2252.

FOR FURTHER INFORMATION CONTACT: Council staff, telephone: 907-271-2809.

SUPPLEMENTARY INFORMATION: The Council's Advisory Panel will begin at 8 a.m., Monday, October 6 and continue through Saturday, October 11, 2003. The Scientific and Statistical Committee will begin at 8 a.m. on Monday, October 6, and continue through Wednesday, October 11, 2003. The Enforcement Committee will meet Tuesday, October 7, at 6:30 p.m.

The Council will begin its plenary session at 8 a.m. on Wednesday, October 8 continuing through Wednesday October 14.

Council Plenary Session: The agenda for the Council's plenary session will include the following issues. The Council may take appropriate action on any of the issues identified.

1. Reports

(a) Executive Director's Report

(b) NMFS Management/Enforcement Reports

(c) United States Coast Guard Report

(d) Alaska Department Fish & Game Reports

2. Gulf of Alaska Rationalization (GOA): Receive report from Joint Protocol Committee; review discussion paper on GOA crab/salmon bycatch and take action as necessary; review staff discussion paper on alternatives and options, open access fisheries, License Limitation Program transfers and catch history, allocation of community shares, observer issues, and Environmental Impact Statement (EIS) alternatives.

3. Community Development Quota (CDQ) Issues: Review proposed appeals process; review discussion paper on eligible CDQ communities.

4. Essential Fish Habitat (EFH)/Habitat Areas of Particular Concern (HAPC): Preliminary review of EIS; finalize HAPC process.

5. Improved Retention/Improved Utilization (IR/IU): Receive Committee report and finalize alternatives for Amendment A.

6. Steller Sea Lion (SSL): Receive SSL Mitigation Committee report and discuss next steps.

7. Halibut Subsistence: Discuss subsistence regulations (data collection, sale, gear regulations); finalize action on Ninilchik eligibility; discuss petitions from other communities.

8. Groundfish Management: Discuss Aleutian Island pollock fishery management; receive report on F40 recommendations; receive report from non-target species committee; review preliminary Stock Assessment and Fishery Evaluation (SAFE) report; set initial groundfish specifications for 2004; take final action on Total Allowable Catch (TAC)-setting process; review discussion paper on repeal of Vessel Incentive Program (VIP).

9. Crab Management: Review Bering Sea Aleutian Island Crab SAFE report; take final action on Pribilof blue king crab rebuilding plan.

10. Staff Tasking: Receive report from Individual Fishing Quota (IFQ) Implementation and Cost Recovery Committee, and review IFQ proposals received; review tasking and provide direction to staff, and discuss direction to Committees.

11. Other Business.

Although non-emergency issues not contained in this agenda may come before this Council for discussion, in accordance with the Magnuson-Stevens Fishery Conservation and Management Act, these issues may not be the subject of formal Council action during the meeting. Council action will be restricted to those issues specifically identified in the agenda listed in this notice and any issues arising after publication of this notice that require emergency action under section 305(c) of the Magnuson-Stevens Act, provided the public has been notified of the Council's intent to take final action to address the emergency.

Scientific and Statistical Committee (SSC): The SSC agenda will include the following issues:

1. C-3 Essential Fish Habitat

2. C-5 Steller Sea Lion

3. D-1(b-f) Groundfish Management

4. D-2 Crab Management

Advisory Panel: The Advisory Panel will address the same agenda issues as the Council.

Enforcement Committee: The Enforcement Committee will meet during each meeting of the Council to discuss enforcement issues or concerns related to any subject on the Council agenda.

Special Accommodations

These meetings are physically accessible to people with disabilities. Requests for sign language interpretation or other auxiliary aids should be directed to Gail Bendixen at 907-271-2809 at least 7 working days prior to the meeting date.

Dated: September 3, 2003.
Richard W. Surdi,
Acting Director, Office of Sustainable Fisheries, National Marine Fisheries Service.

[FR Doc. 03-22915 Filed 9-8-03; 8:45 am]

BILLING CODE 3510-22-S